ENVIRONMENTAL PROTECTION AGENCY

[EPA-HQ-OAR-2009-0022; FRL—10022-23-OAR]

Proposed Information Collection Request; Comment Request; Acid Rain Program (Renewal)

AGENCY: Environmental Protection Agency (EPA).

ACTION: Notice.

SUMMARY: The Environmental Protection Agency (EPA) is planning to submit an information collection request (ICR), “Acid Rain Program (Renewal)” (EPA ICR No. 1633.18, OMB Control No. 2060-0258) to the Office of Management and Budget (OMB) for review and approval in accordance with the Paperwork Reduction Act. Before doing so, EPA is soliciting public comments on specific aspects of the proposed information collection as described below. This is a proposed extension of the ICR, which is currently approved through December 31, 2021. An Agency may not conduct or sponsor and a person is not required to respond to a collection of information unless it displays a currently valid OMB control number.

DATES: Comments must be submitted on or before June 1, 2021.

ADDRESSES: Submit your comments, referencing Docket ID No. EPA-HQ-OAR-2009-0022, online using www.regulations.gov (our preferred method), by email to a-and-r-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Karen VanSickle, Clean Air Markets Division, Office of Air and Radiation, (6204M), Environmental Protection Agency, 1200 Pennsylvania Ave. NW, Washington, DC 20460; telephone number: 202-343-9220; fax number: 202-343-2361; email address: vansickle.karen@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Acid Rain Program was established under Title IV of the 1990 Clean Air Act Amendments to address acid deposition by reducing emissions of sulfur dioxide (SO2) and nitrogen oxides (NOX). This information collection extension is necessary to continue implementation of the Acid Rain Program. It includes burden and costs associated with developing and modifying permits, complying with NOX permitting requirements, monitoring emissions, transferring allowances, participating in the annual allowance auctions, and participating in the program as an opt-in source.

Form Numbers: Agent Notice of Delegation #5900-172, Certificate of Representation #7610-1, General Account Form #7610-5, Allowance Transfer Form #7610-6, Retired Unit Exemption #7610-20, Allowance Deduction #7620-4, Acid Rain Permit Application #7610-16, Acid Rain NOX Compliance Plan #7610-28, Acid Rain NOX Averaging Plan #7610-29, New Unit Exemption #7610-19, Opt-In Permit Application #7610-26, Opt-In Utilization Report #7620-9. Respondents/affected entities: Electricity generating plants, industrial sources, and other persons.

Respondents' obligation to respond: Voluntary and mandatory (Clean Air Act sections 403, 407, 408, 410, 412, and 416).

Estimated number of respondents: 1,219 (total); includes 1,169 sources and 50 non-source entities participating in allowance trading activities.

Frequency of response: On occasion, quarterly, and annually.

Total estimated burden: 1,826,133 hours (per year). Burden is defined at 5 CFR 1320.03(b).

Total estimated cost: $276,811,849 (per year); includes $129,450,755 annualized capital or operation & maintenance costs.

Changes in Estimates: There is a decrease of 47,747 hours in the total estimated respondent burden compared with the ICR currently approved by OMB. The decrease is principally due to source retirements, which have both reduced the estimated overall number of affected sources and shifted the estimated mix of monitoring methodologies used. The other factors contributing to the decrease in burden are reductions in the estimated numbers of allowance transfer and deduction submissions, expected opt-in sources, and allowance auction bids.

Reid P. Harvey,
Director, Clean Air Markets Division, Office of Atmospheric Programs, Office of Air and Radiation.

[FR Doc. 2021-06864 Filed 4-1-21; 8:45 am]

BILLING CODE 6560-50-P